ENVIRONMENTAL PROTECTION AGENCY

[FRL-9942-41-ORD]

Regional Monitoring Networks (RMNs) To Detect Changing Baselines in Freshwater Wadeable Streams

AGENCY: Environmental Protection Agency (EPA).

ACTION: Notice of availability.

SUMMARY: Environmental Protection Agency (EPA) is announcing the availability of a document titled, “Regional Monitoring Networks (RMNs) to Detect Changing Baselines in Freshwater Wadeable Streams” (EPA/600/R-15/280). The document was prepared by the National Center for Environmental Assessment (NCEA) within EPA's Office of Research and Development. The document describes the development of the current regional monitoring networks (RMNs) for riffle-dominated, freshwater wadeable streams.

The final document is available via the Internet on the NCEA home page under the Recent Additions and the Data and Publications menus at http://www.epa.gov/risk/ecological-risk-assessment-products-and-publications.

DATES: The document will be available on or around February 29, 2016.

ADDRESSES: The final report, “Regional Monitoring Networks (RMNs) to Detect Changing Baselines,” is available primarily via the Internet on the Ecological Risk Assessment Products and Publications Web page at http://www.epa.gov/risk/ecological-risk-assessment-products-and-publications. A limited number of paper copies are available from the Information Management Team, NCEA; telephone: 703-347-8561; facsimile: 703-347-8691. If you are requesting a paper copy, please provide your name, mailing address, and the document title.

FOR FURTHER INFORMATION CONTACT: For technical information, contact Britta Bierwagen, NCEA; telephone: 703-347-8613; facsimile: 703-347-8694; or email: bierwagen.britta@epa.gov.

SUPPLEMENTARY INFORMATION:

I. Information About the Project/Document

The United States Environmental Protection Agency is working with its regional offices, states, tribes, river basin commissions, and other entities to establish Regional Monitoring Networks (RMNs) for freshwater wadeable streams. RMNs have been established in the Northeast, Mid Atlantic, and Southeast, and efforts are expanding into other regions. Long term biological, thermal, hydrologic, physical habitat, and water chemistry data are being collected at RMN sites to document current conditions and detect long term changes. Consistent methods are being used to increase the comparability of data, minimize biases and variability, and ensure that the data meet data quality objectives. RMN surveys build on existing state and tribal bioassessment efforts, with the goal of collecting comparable data at a limited number of sites that can be pooled at a regional level. Pooling data enables more robust regional analyses and improves the ability to detect trends over shorter time periods. This document describes the development and implementation of the RMNs. It includes information on selection of sites, expectations for data collection, the rationale for collecting these data, data infrastructure, and provides examples of how the RMN data will be used and analyzed. The report concludes with a discussion on the status of monitoring activities and next steps.

Dated: February 19, 2016.
Mary A. Ross,
Deputy Director, National Center for Environmental Assessment.

[FR Doc. 2016-04087 Filed 2-26-16; 8:45 am]

BILLING CODE 6560-50-P